DEPARTMENT OF ENERGY

Federal Energy Regulatory Commission

Combined Notice of Filings

Take notice that the Commission has received the following Natural Gas Pipeline Rate and Refund Report filings:

Filings Instituting Proceedings

Docket Numbers: RP17-157-000.

Applicants: Iroquois Gas Transmission System, L.P.

Description: Compliance filing 11/03/16—Implementing Settlement Rates (2016) to be effective 9/1/2016.

Filed Date: 11/3/16.

Accession Number: 20161103-5115.

Comments Due: 5 p.m. ET 11/15/16.

Docket Numbers: RP17-158-000.

Applicants: Northern Natural Gas Company.

Description: § 4(d) Rate Filing: 20161104 Negotiated Rate to be effective 11/8/2016.

Filed Date: 11/4/16.

Accession Number: 20161104-5165.

Comments Due: 5 p.m. ET 11/16/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP17-19-001.

Applicants: Iroquois Gas Transmission System, L.P.

Description: Tariff Amendment: 11/02/16 Negotiated Rates—Vitol (RTS) 7495-02 (AMD) to be effective 11/2/2016.

Filed Date: 11/2/16.

Accession Number: 20161102-5065.

Comments Due: 5 p.m. ET 11/14/16.

Docket Numbers: RP16-1285-001.

Applicants: Dominion Carolina Gas Transmission, LLC.

Description: Compliance filing DCGT—2016 FRQ & TDA Report Compliance Filing to be effective 11/1/2016.

Filed Date: 11/4/16.

Accession Number: 20161104-5158.

Comments Due: 5 p.m. ET 11/16/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 7, 2016
Nathaniel J. Davis, Sr.,
Deputy Secretary.

[FR Doc. 2016-27482 Filed 11-15-16; 8:45 am]

BILLING CODE 6717-01-P